DEPARTMENT OF COMMERCE

Bureau of Industry and Security

15 CFR Parts 738, 740, 742 and 774

[Docket No. 241113-0293]

RIN 0694-AJ63

Implementation of Additional Controls on Pakistan

Correction

In rule document 2024-27648, appearing on pages 93164-93169, in the issue of Tuesday, November 26, 2024, make the following correction:

On page 93164, in the third column, in the DATES section, in the first and second lines “November 25, 2024,” should read “December 26, 2024,”

[FR Doc. C1-2024-27648 Filed 11-27-24; 8:45 am]

BILLING CODE 0099-10-D